OFFICE OF PERSONNEL MANAGEMENT

Excepted Service

AGENCY: Office of Personnel Management.

ACTION: Notice.

SUMMARY: This gives notice of positions placed or revoked under Schedules placed under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 October 25, 2000 (65 FR 63903). Individual authorities established or revoked under Schedule C between October 1, 2000, and October 31, 2000, appear in the listing below. Future notices will be published on the fourth Tuesday of each month, or as soon as possible thereafter. A consolidated listing of all authorities as of June 30 is published each year.

Schedule C

The following Schedule C authorities were established during October 2000:

Department of Agriculture

Confidential Assistant to the Director, Office of Communications. Effective October 23, 2000.

Special Assistant to the Administrator, Foreign Agriculture Service. Effective October 23, 2000.

Department of Commerce

Director of Advance to the Deputy Chief of Staff for External Affairs. Effective October 4, 2000.

Confidential Assistant to the Deputy Chief of Staff for External Affairs. Effective October 4, 2000.

Policy Advisor for International and Economic Affairs to the Assistant to the Secretary and Director, Office of Policy and Strategic Planning. Effective October 11, 2000.

Department of Defense

Defense Fellow to the Special Assistant for White House Liaison. Effective October 13, 2000.

Department of Education

Confidential Assistant to the Deputy Assistant Secretary for Intergovernmental Affairs, Constituent Relations and Corporate Liaison. Effective October 4, 2000.

Confidential Assistant to the Deputy Assistant Secretary, Regional Services, Office of Intergovernmental and Interagency Affairs. Effective October 4, 2000.

Special Assistant to the Counselor to the Secretary. Effective October 23, 2000.

Department of Energy

Special Assistant to the Chief Financial Officer. Effective October 11, 2000.

Special Assistant to the Director, Office of Scheduling and Advance. Effective October 26, 2000.

Special Assistant to the Director, Secretary of Energy Advisory Board. Effective October 27, 2000.

Department of Health and Human Services

Confidential Assistant to the Executive Secretary to the Department of Health and Human Services. Effective October 27, 2000.

Department of Housing and Urban Development

General Deputy Assistant Secretary for Housing to the Assistant Secretary for Housing-Federal Housing Commissioner. Effective October 4, 2000.

Intergovernmental Relations Specialist to the Deputy Assistant Secretary for Congressional and Intergovernmental Relations. Effective October 13, 2000.

Department of Justice

Assistant to the Attorney General (Director of Scheduling). Effective October 27, 2000.

Department of Labor

Advisor to the Secretary of Labor. Effective October 24, 2000.

Staff Assistant to the Director of Scheduling and Advance. Effective October 27, 2000.

Director of Scheduling and Advance to the Chief of Staff. Effective October 27, 2000.

Department of State

Staff Assistant to the Senior Advisor to the Secretary and White House Liaison. Effective October 27, 2000.

Department of Transportation

Deputy Assistant Administrator to the Assistant Administrator for Government and Industry Affairs. Effective October 4, 2000.

Office of National Drug Control Policy

Staff Assistant (Office Automation) to the Chief of Staff, Office of National Drug Control Policy. Effective October 4, 2000.

Staff Assistant (Office Automation) to the Director, Office of National Drug Control Policy. Effective October 4, 2000.

Small Business Administration

Senior Advisor to the Associate Administrator for Veteran's Business Development. Effective October 11, 2000.

Confidential Advisor to the Deputy Administrator and Director of External Affairs. Effective October 16, 2000.

Speechwriter and Special Assistant to the Associate Administrator for Communications and Public Liaison. Effective October 27, 2000.

Authority: 5 U.S.C. 3301 and 3302; E.O. 10577, 3 CFR 1954-1958 Comp., p. 218

Office of Personnel Management.
Janice R. Lachance,
Director.

[FR Doc. 00-31148 Filed 12-6-00; 8:45 am]

BILLING CODE 6325-01-P